DEPARTMENT OF HEALTH AND HUMAN SERVICES

Administration for Children and Families

Proposed Information Collection Activity; Comment Request

Title: Maternal, Infant and Early Childhood Home Visiting Evaluation: Baseline survey data collection.

OMB No.:

Description: The Administration for Children and Families (ACE) and Health Resources and Services Administration (HRSA) within the U.S. Department of Health and Human Services (HHS) have launched a national evaluation called the Maternal, Infant and Early Childhood Home Visiting Evaluation (MIECE). This evaluation, mandated by the Affordable Care Act, will inform the federal government about the effectiveness of the newly established MIECHV program in its first few years of operation, and provide information to help states develop and strengthen home visiting programs in the future. By systematically estimating the effects of home visiting programs across a wide range of outcomes and studying the variation in how programs are implemented, MIECE will provide valuable information on the effects of these programs on parents and children. This includes investigating the effects of home visiting on maternal and child well-being, how those effects vary for different home visiting approaches, and how variations in program design and implementation influence program fidelity and impacts.

The MIECE study includes two phases: Phase 1 includes baseline data collection and implementation data; Phase 2 includes follow up data collection. The purpose of the current document is to request approval of data collection efforts needed for Phase 1 of MIECE and to request a waiver for subsequent 60 day notices for Phase 2. Phase I will include data collected about families when they enter the study as well as data on program implementation. Those data collection efforts include the following: (1) Obtaining consent to collect data from all Phase 1 respondents, (2) surveys of parents when they enter the study, (3) annual semi-structured interviews with state MIECHV administrators, (4) annual surveys of home visiting program site managers, (5) annual surveys of home visiting program site supervisors, (6) annual surveys of program site home visitors, (7) annual surveys of administrators of community resources that provide services relevant to home visited families; (8) logs maintained by supervisors on supervisory activities, (9) logs maintained by home visitors on service delivery, (10) self-completed questionnaires by parents during selected home visits, (11) self-completed questionnaires by home visitors during selected home visits, and (12) qualitative interviews and focus groups with staff at participating program sites in each state. These data will be used to measure characteristics of participating families at the time of enrollment into the study; characteristics of program staff; factors for service delivery; and program implementation, fidelity, and costs. In addition to data collected during Phase 1, the evaluation will collect information on family outcomes around the time of the child's first birthday. These data will include a one-hour interview with the parent and 30-minutes of observed interactions between the parent and child. This notice does not seek comment on these follow-up data collection activities.

The baseline family survey will be used to collect information on background and experiences when families enter the study. The remaining data collection will be used to collect information on organizational and individual-level factors that influence how home visiting services are delivered. The visit logs for families participating in NIECE and assigned to the home visiting group and the videotaped home visits will be used to collect information on the services provided to families.

Respondents: The respondents, who will be the same in Phases 1 and 2 of the evaluation, will include enrolled parents; state MIECHV administrators; home visiting program managers, supervisors, and home visitors; and administrators of community resources. Data collection activities will take place over a three-year period.

Annual Burden Estimates
Instrument | Annual number of respondents | Number of responses per respondent | Average burden hours per response | Total annual burden hours
Consent for all Phase 1 respondents | 2040 | 1 | 0.2 | 408
Baseline survey of parents in the study | 1700 | 1 | 1.0 | 1700
Semi-structured interviews with state MIECHV administrators | 8 | 1 | 2.0 | 16
Surveys of program site managers | 28 | 2 | 3.0 | 168
Surveys of program site supervisors | 33 | 2 | 1.25 | 85
Surveys of program site home visitors | 170 | 2 | 1.25 | 425
Surveys of community resource administrators | 567 | 1 | 0.1 | 57
Supervisor logs | 33 | 48 | 0.5 | 792
Home visitor logs | 170 | 48 | 0.5 | 4080
Self-completed questionnaires by parents | 255 | 1 | 0.2 | 51
Self-completed questionnaires by home visitors | 85 | 3 | 0.2 | 51
Qualitative interviews and focus groups with staff at participating program sites in each state | 232 | 1 | 1.0 | 232
Estimated Total Annual Burden Hours |  |  |  | 8,065

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade SW., Washington, DC 20447, Attn: OPRE Reports Clearance Officer. Email address: OPREinfocollection@acf.hhs.gov. All requests should be identified by the title of the information collection.

The Department specifically requests comments on (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: December 5, 2011.
Steven M. Hanmer,
Reports Clearance Officer.

[FR Doc. 2011-31597 Filed 12-9-11; 8:45 am]

BILLING CODE 4184-22-M